DEPARTMENT OF ENERGY

Federal Energy Regulatory Commission

[Docket Nos. ER12-678-000 and ER12-679-000]

Midwest Independent Transmission System Operator, Inc.; Notice of Deadlines for Filing Post-Conference Comments

As announced in the Notice of Technical Conference issued on April 4, 2012, and as required in the Commission's March 30, 2012 order in these dockets,¹ there will be a technical conference in these proceedings on May 15, 2012 at the Federal Energy Regulatory Commission, 888 First Street NE., Washington, DC, Room 3M-2A&B. The technical conference will be led by staff, and will be open for the public to attend.

¹ Midwest Independent Transmission System Operator, Inc., 138 FERC ¶ 61,235 (2012).

Parties wishing to file comments on the matters discussed at the technical conference, and wishing to reply to comments filed by others, should do so on the following schedule:

Comments: Due on or before June 5, 2012.

Reply comments: Due on or before June 19, 2012.

Dated: May 14, 2012.
Kimberly D. Bose,
Secretary.

[FR Doc. 2012-12073 Filed 5-17-12; 8:45 am]

BILLING CODE 6717-01-P